DEPARTMENT OF HOMELAND SECURITY

Federal Emergency Management Agency

44 CFR Part 67

[Docket ID FEMA-2010-0003; Internal Agency Docket No. FEMA-B-1153]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 7, 2011.

ADDRESSES: The corresponding preliminary Flood Insurance Rate Map (FIRM) for the proposed BFEs for each community is available for inspection at the community's map repository. The respective addresses are listed in the table below.

You may submit comments, identified by Docket No. FEMA-B-1153, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Harrison County, Iowa, and Incorporated Areas
Boyer River (Left Overbank) | Approximately 0.66 mile upstream of I-29 | None | +1003 | Unincorporated Areas of Harrison County.
| Approximately 150 feet upstream of 296th Street | None | +1018
Boyer River (Left Overbank) (overflow effects from Missouri River) | From the Pottawattamie County boundary to approximately 0.66 mile upstream of I-29 | None | +1003 | Unincorporated Areas of Harrison County.
Boyer River (Right Overbank) | Approximately 200 feet upstream of I-29 | None | +1003 | City of Missouri Valley, Unincorporated Areas of Harrison County.
| Approximately 150 feet upstream of 296th Street | None | +1018
Boyer River (Right Overbank) (overflow effects from Missouri River) | From the Pottawattamie County boundary to approximately 200 feet upstream of I-29 | None | +1003 | Unincorporated Areas of Harrison County.
Boyer River (Riverward) | Approximately 250 feet downstream of I-29 | None | +1003 | Unincorporated Areas of Harrison County.
| Approximately 150 feet upstream of 296th Street | None | +1018
Boyer River (Riverward) (overflow effects from Missouri River) | From the Pottawattamie County boundary to approximately 250 feet downstream of I-29 | None | +1003 | Unincorporated Areas of Harrison County.
Little Sioux River (Left Overbank) | At the confluence with the Missouri River | None | +1029 | City of Little Sioux, Unincorporated Areas of Harrison County.
| Approximately 2,000 feet upstream of 120th Street | None | +1040
Little Sioux River (Right Overbank) | At the confluence with the Missouri River | None | +1029 | Unincorporated Areas of Harrison County.
| Approximately 2,000 feet upstream of 120th Street | None | +1040
Little Sioux River (Riverward) | At the confluence with the Missouri River | None | +1029 | Unincorporated Areas of Harrison County.
| Approximately 2,000 feet upstream of 120th Street | None | +1041
Missouri River | Approximately 0.88 mile upstream of the Pottawattamie County boundary | +1003 | +1004 | City of Missouri Valley, City of Modale, City of Mondamin, Unincorporated Areas of Harrison County.
| At the Monona County boundary | +1032 | +1034
Willow Creek (Left Overbank) | Approximately 1.48 miles upstream of the confluence with the Boyer River | None | +1006 | Unincorporated Areas of Harrison County.
| Approximately 50 feet downstream of Canal Street | None | +1008
Willow Creek (Left Overbank) | Approximately 0.75 mile upstream of Huron Street | None | +1010 | City of Missouri Valley, Unincorporated Areas of Harrison County.
| Approximately 0.45 mile upstream of 291st Street | None | +1021
Willow Creek (Left Overbank) (backwater effects from Boyer River) | From the confluence with the Boyer River to approximately 1.48 miles upstream of the confluence with the Boyer River | None | +1006 | Unincorporated Areas of Harrison County.
Willow Creek (Left Overbank) (overflow effects from Missouri River) | From approximately 1,850 feet upstream of Huron Street to approximately 0.75 mile upstream of Huron Street | +1009 | +1010 | City of Missouri Valley, Unincorporated Areas of Harrison County.
Willow Creek (Right Overbank) (backwater effects from Boyer River) | From the confluence with the Boyer River to approximately 1.8 miles upstream of the confluence with the Boyer River | None | +1006 | Unincorporated Areas of Harrison County.
Willow Creek (Right Overbank) (overflow effects from Missouri River) | Approximately 1.8 miles upstream of the confluence with the Boyer River | None | +1006 | City of Missouri Valley, Unincorporated Areas of Harrison County.
| Approximately 0.45 mile upstream of 291st Street | None | +1011
Willow Creek (Riverward) | Approximately 0.76 mile upstream of the confluence with the Boyer River | None | +1010 | City of Missouri Valley, Unincorporated Areas of Harrison County.
| Approximately 0.45 mile upstream of 291st Street | None | +1021
Willow Creek (Riverward) (backwater effects from Boyer River) | From the confluence with the Boyer River to approximately 0.76 mile upstream of the confluence with the Boyer River | None | +1010 | Unincorporated Areas of Harrison County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Little Sioux
Maps are available for inspection at City Hall, 407 1st Street, Little Sioux, IA 51545.
City of Missouri Valley
Maps are available for inspection at the City Clerk's Office, 223 East Erie Street, Missouri Valley, IA 51555.
City of Modale
Maps are available for inspection at City Hall, 310 East Palmer Street, Modale, IA 51556.
City of Mondamin
Maps are available for inspection at City Hall, 120 South Main Street, Mondamin, IA 51557.
Unincorporated Areas of Harrison County
Maps are available for inspection at the Harrison County Zoning Administration Building, 301 North 6th Avenue, Logan, IA 51546.
Mercer County, New Jersey (All Jurisdictions)
Assunpink Creek | At the confluence with the Delaware River | +23 | +25 | City of Trenton.
| Approximately 120 feet upstream of Jackson Street | +24 | +25
Beden Brook | At Princeton Avenue (approximately 800 feet south of the intersection of Princeton Avenue and East Prospect Street) | None | +164 | Borough of Hopewell.
| At parking lot approximately 710 feet south of the intersection of Princeton Avenue and East Prospect Street | None | +164
Delaware River | Approximately 1,000 feet downstream of U.S. Route 1 (Trenton-Morrisville Toll Bridge) | +20 | +19 | City of Trenton, Township of Ewing, Township of Hopewell.
| Approximately 0.5 mile upstream of the confluence of Moores Creek and the Delaware River | +60 | +61
Delaware River | Approximately 2.2 miles downstream of U.S. Route 1 (Trenton-Morrisville Toll Bridge) | +17 | +18 | City of Trenton, Township of Hamilton.
| Approximately 1.8 miles downstream of U.S. Route 1 (Trenton-Morrisville Toll Bridge) | +17 | +18
Jacobs Creek | At the confluence with the Delaware River | +47 | +46 | Township of Ewing, Township of Hopewell.
| Approximately 0.4 mile upstream of State Route 29 (River Road) | +47 | +46
Miry Run | At the Township of Hamilton/Township of West Windsor corporate limits | None | +72 | Township of Robbinsville, Township of West Windsor.
| Approximately 1,150 feet downstream of Pond Road | +71 | +72
Moores Creek | At the confluence with the Delaware River | +59 | +60 | Township of Hopewell.
| Approximately 0.7 mile downstream of Valley Road | None | +60
Stony Brook | Approximately 75 feet downstream of Pennington-Rocky Hill Road | None | +147 | Borough of Pennington.
| Approximately 1,575 feet upstream of Pennington-Rocky Hill Road | None | +149
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Hopewell
Maps are available for inspection at the Hopewell Borough Hall, 4 Columbia Avenue, Hopewell, NJ 08525.
Borough of Pennington
Maps are available for inspection at Borough Hall, 30 North Main Street, Pennington, NJ 08534.
City of Trenton
Maps are available for inspection at City Hall, 319 East State Street, Trenton, NJ 08608.
Township of Ewing
Maps are available for inspection at the Township Municipal Building, 2 Jake Garzio Drive, Ewing, NJ 08628.
Township of Hamilton
Maps are available for inspection at the Township Municipal Building, 2090 Greenwood Avenue, Hamilton, NJ 08609.
Township of Hopewell
Maps are available for inspection at the Hopewell Township Municipal Building, 201 Washington Crossing, Titusville, NJ 08560.
Township of Robbinsville
Maps are available for inspection at the Township Municipal Building, One Washington Boulevard, Robbinsville, NJ 08691.
Township of West Windsor
Maps are available for inspection at the Township Municipal Building, 271 Clarksville Road, West Windsor, NJ 08550.
Nash County, North Carolina, and Incorporated Areas
Cokey Swamp | Approximately 90 feet downstream of Old Wilson Road (Secondary Road 1002) | +106 | +107 | City of Rocky Mount.
| Approximately 1.1 mile upstream of Old Wilson Road (Secondary Road 1002) | None | +118
Cowlick Creek | Just upstream of U.S. Highway 64 | +80 | +79 | City of Rocky Mount.
| Just downstream of Cortland Avenue | +95 | +92
Cypress Creek | At the confluence with the Tar River | +170 | +171 | Unincorporated Areas of Nash County.
| Approximately 300 feet upstream of Lake Royale Road (Secondary Road 1316) | +170 | +171
Fishing Creek | Just upstream of the railroad | +98 | +97 | Unincorporated Areas of Nash County.
| Approximately 50 feet downstream of Ward Road (Secondary Road 1502) | +129 | +132
Grape Branch | Approximately 200 feet upstream of Beechwood Drive | +108 | +107 | City of Rocky Mount, Unincorporated Areas of Nash County.
| Approximately 1,100 feet upstream of Beechwood Drive | +110 | +107
Indian Branch | Approximately 175 feet downstream of Gay Road (Secondary Road 1268) | +71 | +70 | City of Rocky Mount.
| Approximately 190 feet upstream of Hunting Lodge Drive | None | +91
Little Cokey Swamp | Approximately 250 feet downstream of Greenpasture Road (Secondary Road 1141) | +92 | +93 | City of Rocky Mount.
| Approximately 50 feet downstream of Kingston Avenue | +129 | +130
Little Cokey Swamp Tributary | At the confluence with Little Cokey Swamp | +106 | +105 | City of Rocky Mount.
| Approximately 200 feet upstream of South Church Street | None | +126
Little Creek | Approximately 500 feet downstream of the railroad | +198 | +199 | Town of Middlesex, Unincorporated Areas of Nash County.
| Approximately 0.5 mile upstream of Debnam Road | None | +278
Maple Creek | Approximately 0.3 mile upstream of Bethlehem Road (Secondary Road 1142) | +110 | +111 | City of Rocky Mount, Unincorporated Areas of Nash County.
| Approximately 280 feet upstream of South Old Carriage Road | None | +166
Parkers Canal | At the confluence with Cowlick Creek | +80 | +79 | City of Rocky Mount.
| Approximately 60 feet downstream of Atlantic Avenue | +96 | +98
Pig Basket Creek | Approximately 900 feet upstream of Red Oak Road (Secondary Road 1003) | +128 | +127 | Town of Red Oak, Unincorporated Areas of Nash County.
| Approximately 0.4 mile upstream of Taylors Store Road (Secondary Road 1004) | +156 | +155
Polecat Branch | At the confluence with Maple Creek | +111 | +112 | Unincorporated Areas of Nash County.
| Approximately 0.8 mile upstream of the confluence with Polecat Branch Tributary | +118 | +120
Sapony Creek | Approximately 200 feet upstream of Sandy Cross Road (Secondary Road 1717) | +133 | +132 | Unincorporated Areas of Nash County.
| Approximately 1,550 feet upstream of NC Highway 58 | None | +145
Stony Creek | Approximately 0.5 mile downstream of Red Oak Road (Secondary Road 1003) | +129 | +130 | City of Rocky Mount, Town of Nashville, Town of Red Oak.
| Just upstream of U.S. Route 64 | +151 | +152
Swift Creek | Approximately 1.8 miles downstream of the Edgecombe County boundary | +90 | +88 | City of Rocky Mount, Unincorporated Areas of Nash County.
| At Red Oak Road (Secondary Road 1003) | +130 | +131
Tar River | Approximately 150 feet downstream of South Old Carriage Road | +132 | +133 | City of Rocky Mount, Town of Spring Hope, Unincorporated Areas of Nash County.
| At the confluence with Cypress Creek | +170 | +171
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Rocky Mount
Maps are available for inspection at the Planning Department, 331 South Franklin Street, Rocky Mount, NC 27802.
Town of Middlesex
Maps are available for inspection at the Town Hall, 10232 South Nash Street, Middlesex, NC 27557.
Town of Nashville
Maps are available for inspection at the Town Hall, 499 South Barnes Street, Nashville, NC 27856.
Town of Red Oak
Maps are available for inspection at the Town Hall, 8406 Main Street, Red Oak, NC 27868.
Town of Spring Hope
Maps are available for inspection at the Town Hall, 118 West Railroad Street, Spring Hope, NC 27882.
Unincorporated Areas of Nash County
Maps are available for inspection at the Nash County Planning Department, 120 West Washington Street, Suite 2110, Nashville, NC 27856.
El Paso County, Texas, and Incorporated Areas
Flow Path 16 | Just upstream of Donald Drive | None | +3960 | City of El Paso.
| Approximately 1,000 feet upstream of Rushing Drive | +3977 | +3975
Flow Path Number 27 Playa Drain | Just upstream of Vocational Drive | None | +3663 | City of El Paso.
| Just downstream of Clark Drive | None | +3699
Flow Path Number 29 | Just upstream of Del Monte Street | None | +3738 | City of El Paso.
| Just downstream of Prestcott Drive | None | +3771
Flow Path Number 32 | Just upstream of Barron Road | +3668 | +3670 | City of El Paso.
| Just downstream of Patrol Drive | +3714 | +3716
Flow Path Number 36 | Just upstream of the confluence with Mesa Spur Drain | +3662 | +3666 | City of El Paso.
| Approximately 0.75 mile upstream of the confluence with Mesa Spur Drain | +3720 | +3724
Flow Path Number 41 | Approximately 0.37 mile downstream of the confluence of Flow Path Number 41A | None | +3871 | City of El Paso.
| Approximately 0.48 mile upstream of the confluence of Flow Path Number 41A | None | +3987
Flow Path Number 44 | Approximately 0.67 mile upstream of the confluence of Flow Path Number 43 | None | +3923 | Unincorporated Areas of El Paso County.
| Approximately 1.04 miles upstream of the confluence of Flow Path Number 43 | None | +3956
Flow Path Number 45 | Approximately 0.57 mile downstream of the confluence of Flow Path Number 45A | None | +3783 | Town of Vinton, Unincorporated Areas of El Paso County.
| Approximately 1.50 miles upstream of the confluence of Flow Path Number 45B | None | +4515
Horizon Arroyo Stream 2 | Approximately 65 feet downstream of I-10 (Frontage Road) | +3752 | +3747 | Unincorporated Areas of El Paso County.
| Just downstream of Access Road | +3888 | +3892
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of El Paso
Maps are available for inspection at City Hall, 2 Civic Center Plaza, El Paso, TX 79901.
Town of Vinton
Maps are available for inspection at 436 East Vinton Road, Vinton, TX 79821.
Unincorporated Areas of El Paso County
Maps are available for inspection at 500 East San Antonio Street, Room 407, El Paso, TX 79901.
Bayfield County, Wisconsin, and Incorporated Areas
Lake Superior | Entire shoreline within community | None | +605 | City of Bayfield, City of Washburn, Red Cliff Band of Lake Superior Chippewa, Unincorporated Areas of Bayfield County.
Lower Eau Claire Lake | Entire shoreline within community | None | +1124 | Unincorporated Areas of Bayfield County.
Middle Eau Claire Lake | Entire shoreline within community | None | +1128 | Unincorporated Areas of Bayfield County.
Namekagon Lake | Entire shoreline within community | None | +1398 | Unincorporated Areas of Bayfield County.
Upper Eau Claire Lake | Entire shoreline within community | None | +1137 | Unincorporated Areas of Bayfield County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Bayfield
Maps are available for inspection at 125 South 1st Street, Bayfield, WI 54814.
City of Washburn
Maps are available for inspection at 119 Washington Avenue, Washburn, WI 54891.
Red Cliff Band of Lake Superior Chippewa
Maps are available for inspection at 88385 State Highway 13, Bayfield, WI 54814.
Unincorporated Areas of Bayfield County
Maps are available for inspection at 117 East 5th Street, Washburn, WI 54891.

(Catalog of Federal Domestic Assistance No. 97.022, “Flood Insurance.”)

Dated: October 29, 2010.
Sandra K. Knight,
Deputy Federal Insurance and Mitigation Administrator, Mitigation, Department of Homeland Security, Federal Emergency Management Agency.

[FR Doc. 2010-28224 Filed 11-8-10; 8:45 am]

BILLING CODE 9110-12-P